DEPARTMENT OF COMMERCE

Submission for OMB Review; Comment Request

DOC has submitted to the Office of Management and Budget (OMB) for clearance the following proposal for collection of information under the provisions of the Paperwork Reduction Act (44 U.S.C. chapter 35).

Agency: U.S. Census Bureau.

Title: Current Population Survey, May 2002 Race & Ethnicity Supplement.

Form Number(s): None. The CPS is conducted by Census Bureau interviewers using laptop computers.

Agency Approval Number: None.

Type of Request: New collection.

Burden: 1,283 hours.

Number of Respondents: 57,000.

Avg Hours Per Response: 1.35 minutes for each interviewed household.

Needs and Uses: The Census Bureau requests Office of Management and Budget clearance for the Race and Ethnicity Supplement to the May 2002 Current Population Survey (CPS). The supplemental questions will be asked of all people 15 years of age and older who responded to the basic labor force questions. To answer these questions, respondents interviewed in person will select the appropriate race(s) and ethnic group from a proposed flashcard. It should be noted that—although the proposed race question includes an “other” category—the interviewers will be instructed not to read the “other” category, and the “other” responses will not be tabulated nor reflected in the resulting public use data set.

The Office of Management and Budget (OMB) issued a revised set of standards for collecting and reporting data on race and ethnicity in October 1997. These changes include altering the placement of the ethnicity question, allowing respondents to select more than one race, and adding a separate race category for Native Hawaiian or Other Pacific Islander. This supplement is designed to measure the effects of these changes on the demographic and economic characteristics of different racial and ethnic populations. The results will be used to plan for the implementation of the 1997 Standards in the CPS beginning in January 2003.

Affected Public: Individuals or households.

Frequency: One time.

Respondent's Obligation: Voluntary.

Legal Authority: Title 13 U.S.C., Section 182.

OMB Desk Officer: Susan Schechter, (202) 395-5103.

Copies of the above information collection proposal can be obtained by calling or writing Madeleine Clayton, Departmental Paperwork Clearance Officer, (202) 482-3129, Department of Commerce, room 6608, 14th and Constitution Avenue, NW., Washington, DC 20230 (or via the Internet at mclayton@doc.gov).

Written comments and recommendations for the proposed information collection should be sent within 30 days of publication of this notice to Susan Schechter, OMB Desk Officer, room 10201, New Executive Office Building, Washington, DC 20503.

Dated: April 22, 2002.
Madeleine Clayton,
Departmental Paperwork Clearance Officer, Office of the Chief Information Officer.

[FR Doc. 02-10262 Filed 4-25-02; 8:45 am]

BILLING CODE 3510-07-P